DEPARTMENT OF HOMELAND SECURITY

Coast Guard

[USCG-2005-20894]

National Maritime Security Advisory Committee

AGENCY: Coast Guard, DHS.

ACTION: Notice of meetings.

SUMMARY: The National Maritime Security Advisory Committee (NMSAC) will hold a teleconference meeting on May 6, 2005 to receive reports from the Credentialing Work Group. The NMSAC will physically meet on June 2, 2005 to discuss various issues relating to national maritime security. This notice announces the date, time, and location for the teleconference meeting and the physical meeting of the NMSAC.

DATES: The NMSAC will meet via teleconference on Friday, May 6, 2005, from 10:30 a.m. to 12 p.m. The NMSAC will meet in-person on Thursday, June 2, 2005, from 9 a.m. to 5 p.m. Both meetings may close early if all business is completed before the scheduled time. Written material and requests to make oral presentations at the May 6 meeting should reach the Coast Guard on or before April 30, 2005. Written material and requests to make oral presentations at the June 2 meeting should reach the Coast Guard on or before May 23, 2005.

ADDRESSES: The NMSAC teleconference meeting will be held in room 6103, U.S. Coast Guard Headquarters, 2100 Second St., SW., Washington, DC. For the June 2 meeting, the NMSAC will meet in the Conference Center at the Sheraton Suites, Old Town, 801 North St. Asaph St., Alexandria, VA. Send written material and requests to make oral presentations to LCDR Bruce Walker, Commandant (G-MPS-2), U.S. Coast Guard Headquarters, 2100 Second St., SW., Washington, DC 20593-0001. This notice is available on the Internet by performing a simple search for the docket number at http://dms.dot.gov.

FOR FURTHER INFORMATION CONTACT: LCDR Bruce Walker, Assistant to the Executive Director, telephone 202-267-4148, fax 202-267-4130.

SUPPLEMENTARY INFORMATION:

Procedural

The May 6 teleconference meeting is open to the public. Please note that the meeting may close early if all business is finished. Security requires that any member of the public who wishes to attend the public session at Coast Guard Headquarters provide his or her name and date of birth no later than 4 p.m., e.s.t., Friday, April 29, 2005, to LCDR Bruce Walker e-mail at BKWalker@comdt.uscg.mil, or via phone at (202) 267-4148. Photo identification will be required for entry into the building, and everyone in attendance must be seated by 10:15 a.m.

The June 2 meeting is open to the public. Please note that the meeting may close early if all business is finished. Members of the public may make oral presentations during the meeting. If you would like to make an oral presentation at the meeting, please notify the LCDR Bruce Walker at BKWalker@comdt.uscg.mil, or via phone at (202) 267-4148, no later than May 23, 2005. If you would like a copy of your written material distributed to each member of the Committee in advance of the meeting, please submit 25 copies of the material to LCDR Bruce Walker no later than May 23, 2005.

Notice of both meetings is given under the Federal Advisory Committee Act, 5 U.S.C. App. 2 (Pub. L. 92-463, 86 Stat. 770).

Agenda of May 6 Teleconference

The agenda includes the following:

(1) Receive report from the Credentialing Work Group

Agenda of June 2 Meeting

The agenda includes the following:

(1) Briefings by Department of Homeland Security officials on national maritime security issues.

(2) Old committee business.

(3) New committee business.

(4) Staff administration issues.

Information on Services for Individuals With Disabilities

For information on facilities or services for individuals with disabilities, or to request special assistance at the meetings, contact LCDR Bruce Walker as soon as possible at the address or phone number listed under FOR FURTHER INFORMATION CONTACT section.

Dated: April 1, 2005.
F. J. Sturm,
Captain, U.S. Coast Guard, Chief, Office of Port and Vessel and Facility Security.

[FR Doc. 05-6953 Filed 4-6-05; 8:45 am]

BILLING CODE 4910-15-P